DEPARTMENT OF TRANSPORTATION

Federal Railroad Administration

[Docket Number FRA-2020-0075]

Petition for Waiver of Compliance

Under part 211 of title 49 Code of Federal Regulations (CFR), this document provides the public notice that on September 15, 2020, Southern California Regional Rail Authority (SCRRA) petitioned the Federal Railroad Administration (FRA) for a waiver of compliance from certain provisions of the Federal railroad safety regulations contained at 49 CFR part 229, Railroad Locomotive Safety Standards; 49 CFR part 231, Railroad Safety Appliance Standards; and 49 CFR part 238, Passenger Equipment Safety Standards. FRA assigned the petition Docket Number FRA-2020-0075.

Specifically, SCRRA is requesting relief from portions of 49 CFR 229.47(b), Emergency brake valve; 231.14(a)(2), (b)-(d), (f), (g), Passenger-train cars without end platforms; and 238.305(c)(5), Interior calendar day mechanical inspection of passenger cars, for three new Fast Light Intercity and Regional Train (FLIRT) Diesel Multiple Unit (DMU) railcars manufactured by Stadler US.

The new FLIRT DMU railcars are to undergo pre-revenue service testing on the SCRRA system and be used in revenue service on an extension of the SCRRA San Bernardino line known as the Redlands Passenger Rail Project (RPRP). The RPRP is a 9-mile rail corridor owned by the San Bernardino County Transportation Authority (SBCTA). Before the start of revenue service, SBCTA will transfer track responsibility and vehicle ownership to SCRRA. The RPRP will have five station stops beginning at the San Bernardino—Downtown station and ending at the Redlands—University station.

SCRRA asserts that the FLIRT trainset is a service-proven design based on European standards. It further states that the design features subject to this request are identical to those on FLIRT vehicles in service at TexRail in Fort Worth, Texas. SCRRA believes that the design characteristics of the Stadler FLIRT vehicles provide an equivalent or higher level of safety and security to the passengers and crew.

SCRRA also requests that FRA exercise its authority under 49 U.S.C. 20306 to exempt SCRRA from certain statutory provisions of 49 U.S.C. Chapter 203, because the FLIRT DMU vehicles will be equipped with their own array of safety devices resulting in equivalent safety.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by November 23, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-22203 Filed 10-6-20; 8:45 am]

BILLING CODE 4910-06-P